OFFICE OF PERSONNEL MANAGEMENT

5 CFR Part 900

Certifying the Use of a Merit Personnel System as Required by the Intergovernmental Personnel Act of 1970

AGENCY: Office of Personnel Management (OPM).

ACTION: Guidance.

SUMMARY: OPM wishes to publicly respond to inquiries regarding the available range of staffing options for federally-funded and state-administered low-income programs that are required to comply with the Intergovernmental Personnel Act of 1970 (IPA) and its implementing regulations.

DATES: April 19, 2019.

FOR FURTHER INFORMATION CONTACT: For questions, please contact Kim Holden, Employee Services, Talent Acquisition and Workforce Shaping at employ@opm.gov or 202-606-8097.

SUPPLEMENTARY INFORMATION: Pursuant to 5 CFR 900.604(b)(3), OPM is tasked with responding to requests for guidance regarding compliance with the Intergovernmental Personnel Act of 1970 (IPA) and its implementing regulations. When a federally-funded program requires state and local agencies to establish a merit personnel system in order to receive funds, the IPA and the regulations in 5 Code of Federal Regulations (CFR) Part 900 Subpart F are applicable. These regulations establish the standards that must be included in a merit personnel system when it is certified by a state or local agency. The IPA and the regulations do not prescribe the use of a particular staffing method such as utilizing state employees or contract employees. In the absence of any other statutory or regulatory requirement to use a specific staffing method, the state or local agency has the discretion to determine the most appropriate staffing method. Regardless of the staffing method chosen, the state or local agency must certify that it is using a merit personnel system that meets the standards outlined in 5 CFR 900.603.

Office of Personnel Management.
Alexys Stanley,
Regulatory Affairs Analyst.

[FR Doc. 2019-07312 Filed 4-18-19; 8:45 am]

BILLING CODE 6325-39-P